NATIONAL SCIENCE FOUNDATION

National Science Board; Sunshine Act Meetings; Notice

The National Science Board's Task Force on Merit Review (MR), pursuant to NSF regulations (45 CFR part 614), the National Science Foundation Act, as amended (42 U.S.C. 1862n-5), and the Government in the Sunshine Act (5 U.S.C. 552b), hereby gives notice in regard to the scheduling of a meeting held by teleconference for the transaction of National Science Board business and other matters specified, as follows:

DATE AND TIME: March 8, 2011, 1 p.m. to 3 p.m.

SUBJECT MATTER: Discussion of Guiding Principles for Assessing Merit Review Criteria and Chairman's remarks.

STATUS: Open.

LOCATION: This meeting will be held by teleconference at the National Science Board Office, National Science Foundation, 4201 Wilson Blvd., Arlington, VA 22230. Room 130, Stafford Place I, National Science Foundation, 4201 Wilson Blvd., Arlington, VA 22230 will be available for the public to listen-in to this meeting held by teleconference. All visitors must contact the Board Office [call 703-292-7000 or send an e-mail message to nationalsciencebrd@nsf.gov] at least 24 hours prior to the teleconference and provide name and organizational affiliation. All visitors must report to the NSF visitor desk located in the lobby at the 9th and N. Stuart Streets entrance on the day of the teleconference to receive a visitor's badge.

UPDATES AND POINT OF CONTACT: Please refer to the National Science Board Web site http://www.nsf.gov/nsb for additional information and schedule updates (time, place, subject matter or status of meeting) may be found at http://www.nsf.gov/nsb/notices/. Point of contact for this meeting is: Kim Silverman, National Science Board Office, 4201 Wilson Blvd., Arlington, VA 22230. Telephone: (703) 292-7000.

Daniel A. Lauretano,
Counsel to the National Science Board.

[FR Doc. 2011-4685 Filed 2-25-11; 4:15 pm]

BILLING CODE 7555-01-P